DEPARTMENT OF COMMERCE

National Oceanic and Atmospheric Administration

50 CFR Part 660

RIN 0648-BG74

Fisheries Off West Coast States; Coastal Pelagic Species Fisheries; Amendment 16 to the Coastal Pelagic Species Fishery Management Plan

AGENCY: National Marine Fisheries Service (NMFS), National Oceanic and Atmospheric Administration (NOAA), Commerce.

ACTION: Availability of fishery management plan amendment; request for comments.

SUMMARY: NMFS announces that the Pacific Fishery Management Council (Council) has submitted Amendment 16 to the Coastal Pelagic Species (CPS) Fishery Management Plan (FMP) for review by the Secretary of Commerce. Amendment 16 would add a description to the CPS FMP of a very small sector of the CPS fishery that is not part of the primary commercial directed fishery and harvests minor amounts of CPS finfish. Total landings from this sector typically make up less than one percent of the total landings of any particular CPS stock. Currently, when directed fishing closures are enacted, these very small-scale fisheries have been precluded from fishing and/or harvesting these minor amounts because they do not fall under the existing exemptions during closures for incidental harvest or for harvesting CPS to be sold as live bait. The intent of Amendment 16 is to allow this sector to continue targeting CPS finfish after a directed fishery closure, while keeping the aggregate catch level within the applicable annual catch limit (ACL).

DATES: Comments on Amendment 16 must be received by January 5, 2018.

ADDRESSES: You may submit comments on this document, identified by NOAA-NMFS-2017-0135, by any of the following methods:

• Electronic Submissions: Submit all electronic public comments via the Federal e-Rulemaking Portal. Go to www.regulations.gov/#!docketDetail;D=NOAA-NMFS-2017-0135, click the “Comment Now!” icon, complete the required fields, and enter or attach your comments.

• Mail: Submit written comments to Barry A. Thom, Regional Administrator, West Coast Region, NMFS, 501 W. Ocean Blvd., Ste. 4200, Long Beach, CA 90802-4250; Attn: Joshua Lindsay.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

Copies of the draft CPS FMP as amended through Amendment 16, with notations showing how Amendment 16 would change the FMP, if approved, are available via the Federal eRulemaking Portal: http://www.regulations.gov, docket NOAA-NMFS-2017-0135, or by contacting the Pacific Fisheries Management Council, 7700 NE Ambassador Place, Suite 101, Portland, OR 97220-1384.

FOR FURTHER INFORMATION CONTACT: Joshua B. Lindsay, Sustainable Fisheries Division, NMFS, at 562-980-4034; or Kerry Griffin, Pacific Fishery Management Council, at 503-820-2280.

SUPPLEMENTARY INFORMATION: The CPS fishery in the U.S. exclusive economic zone (EEZ) off the West Coast is managed under the CPS FMP, which was developed by the Council pursuant to the Magnuson-Stevens Fishery Conservation and Management Act (MSA), 16 U.S.C. 1801 et seq. Species managed under the CPS FMP include Pacific sardine, Pacific mackerel, jack mackerel, northern anchovy, market squid and krill. The CPS FMP was approved by the Secretary of Commerce and was implemented by regulations at 50 CFR part 660, subpart I.

The MSA requires each regional fishery management council to submit any amendment to a FMP to NMFS for review and approval, disapproval, or partial approval. The MSA also requires that NMFS, upon receiving an amendment to a FMP, publish notification in the Federal Register that the amendment is available for public review and comment. NMFS will consider the public comments received during the comment period described above in determining whether to approve, disapprove, or partially approve Amendment 16.

In recent years the primary directed fishery for Pacific sardine has experienced extremely shortened fishing seasons or complete fishing year closures. However, the CPS FMP allows incidental catch of CPS and live bait fishing to continue when directed fisheries are closed, provided the Pacific sardine stock is not overfished or experiencing overfishing. These small allowances continue to be subject to ACLs and comport with the conservation goals of the CPS FMP. Management measures for incidental landing allowances are typically expressed as allowable percentages of that species in a landing of the dominant species catch. However, during the directed fishing closures some other very small-scale fisheries have been precluded from fishing and/or harvesting even de minimis amounts because they would exceed existing incidental allowances or they are not caught incidental to another CPS species (i.e., within allowances) and the fish are not sold as live bait. In the case of Pacific sardine, these small-scale CPS fisheries typically sell their catch as specialty dead bait to recreational and commercial fisheries, or as fresh fish to restaurants and the public. For example, landings by a beach seine operation may often be over 50 percent sardine, which would exceed typically incidental landing allowances, yet total only a few hundred pounds. Pursuant to a request from the Council at their April 2016 meeting, the Coastal Pelagic Species Management Team (CPSMT) explored management options to account for these small-scale fisheries that have been negatively impacted by the closure of the directed sardine fishery.

At the April 2017 Council meeting, the Council adopted Amendment 16 to the CPS FMP to allow minor directed fishing to continue after a directed fishery is closed. Minor directed fishing would be allowed unless otherwise specified, or if an applicable ACL is anticipated to be exceeded. As a further restriction, to ensure the minor directed landing provision is not exploited to make large aggregate harvests, Amendment 16 limits this directed fishing exemption so that landings cannot exceed 1 metric ton (mt) per day per vessel or person, and which is limited to one fishing trip per day by any vessel. The intent of distinguishing between a “vessel” and “person” is that some participants in this small sector of the CPS fishery fish from a platform other than a vessel (e.g. beach seine) and in a single fishing trip (e.g. a single haul of a beach seine) may only land a few hundred pounds. Therefore, the Council recommended allowing a person to make multiple fishing trips without using a vessel in a single day as long as their total landings do not exceed 1 mt in a day. The Council recommended that vessels be limited to a single trip as their typical landings are much greater per trip.

Public comments on Amendment 16 must be received by January 5, 2018. The Council has also submitted proposed regulations to implement Amendment 16 for Secretarial review and approval. NMFS expects to publish and request public comment on the proposed regulation to implement Amendment 16 in the near future. Public comments on Amendment 16 must be received by the end of the comment period to be considered in the approval/disapproval decision on Amendment 16. All comments received by the end of the comment period on Amendment 16, whether specifically directed to Amendment 16 or the proposed rule, will be considered in the approval/disapproval decision. Comments received after that date will not be considered in the approval/disapproval decision of Amendment 16. To be considered, comments must be received by close of business on the last day of the comment period; that does not mean postmarked or otherwise transmitted by that date.

Authority: 16 U.S.C. 1801 et seq.

Dated: November 1, 2017.
Emily H. Menashes,
Acting Director, Office of Sustainable Fisheries, National Marine Fisheries Service.

[FR Doc. 2017-24097 Filed 11-3-17; 8:45 am]

BILLING CODE 3510-22-P